TENNESSEE VALLEY AUTHORITY

Tims Ford Reservoir Land Management and Disposition Plan, Franklin and Moore Counties, Tennessee

AGENCY: Tennessee Valley Authority (TVA).

ACTION: Issuance of Record of Decision.

SUMMARY: This notice is provided in accordance with the Council on Environmental Quality's regulations (40 CFR 1500 to 1508) and TVA's procedures implementing the National Environmental Policy Act. TVA and the Tennessee Department of Environment and Conservation (TDEC) have jointly prepared a comprehensive Land Management and Disposition Plan involving both state and federally-owned properties on Tims Ford Reservoir. On August 29, 2000, the TVA Board of Directors decided to adopt the preferred alternative (Balanced Land Development with Conservation Partnership) identified in the Final Environmental Impact Statement (EIS), Tims Ford Reservoir Land Management and Disposition Plan. A Notice of Availability of the Final EIS was published in the Federal Register on July 7, 2000. Under the adopted land plan, TVA seeks to balance regional development needs with resource conservation on shoreline property. Of the 6,453 acres of federal and state lands on the reservoir which are available for allocation, 5,532 acres would be allocated to resource conservation, sensitive resource management, TVA project operation, or recreation uses; 888 acres would be allocated for residential development or commercial development uses, and 33 acres would be allocated for a Conservation Partnership approach which would seek to create a wider shoreline buffer in exchange for limited community water use facility access.

FOR FURTHER INFORMATION CONTACT: Harold M. Draper, NEPA Specialist, Environmental Policy & Planning, Tennessee Valley Authority, 400 West Summit Hill Drive, WT 8C, Knoxville, Tennessee 37902-1499; telephone (865) 632-6889 or e-mail hmdraper@tva.gov.

SUPPLEMENTARY INFORMATION: Tims Ford Reservoir was completed in 1970 by TVA for the purposes of flood control, hydroelectric generation, recreation, and economic development. The reservoir is 34 miles long at full pool. There are approximately 250 miles of shoreline at normal summer pool (NSP). Following completion of the reservoir, the Tennessee Elk River Development Agency (TERDA), a state agency, developed subdivisions and recreational facilities on reservoir properties between 1970 and 1996. In 1996, the Tennessee General Assembly passed Public Chapter 816, which terminated TERDA and transferred all powers, duties, contractual obligations, functions and remaining land interests of the agency to TDEC. TDEC and TVA agreed by contract in 1998 to develop a comprehensive land management and disposition plan to determine specific uses of reservoir lands. This EIS and land management plan are in fulfillment of that contract. Originally, 21,863 acres of land were acquired for the Tims Ford Project. Reservoir acreage above NSP was 11,183. Subsequent transfers and sales of land for various commercial, industrial, residential, and recreational uses have resulted in a current balance of 6,453 acres of project lands above NSP. These lands are divided in ownership between TVA (1,854 acres) and TDEC (4,599 acres).

TVA and TDEC announced their proposal to prepare a Tims Ford Land Management Plan in October 1998 and held public scoping meetings on November 9, 1998 in Winchester, Tennessee and November 10, 1998 in Fayetteville, Tennessee. Written comments also were requested through publication of a notice in a newspaper and a website. As land allocation and scoping for the land plan developed, it became evident that increased levels of residential development would result from some of the alternatives. Accordingly, the agencies determined that an EIS would allow better understanding of the impacts of the various alternatives. On July 22, 1999, TVA issued a Notice of Intent to prepare an EIS on alternatives for a land management plan at Tims Ford Reservoir. The Notice of Intent indicated that additional comments on the scope of issues to be addressed could be submitted in writing or through a website. These comments and previous comments from the 1998 scoping period were analyzed to determine the issues and alternatives to be considered in the EIS. A Notice of Availability for the Draft EIS was published in the Federal Register on November 12, 1999. TVA and TDEC subsequently held public meetings in Winchester, Tennessee on November 30, 1999 and Tullahoma, Tennessee on December 2, 1999 to discuss the draft EIS and solicit comments on the draft. Comments were received at public meetings and by written responses thereafter from 268 people, agencies, and organizations. After considering all comments, the Final EIS was completed and distributed to commenting agencies and the public. A Notice of Availability for the Final EIS was published on July 7, 2000.

Alternatives Considered

TVA initially considered four alternatives, including no action, for allocation of Tims Ford lands. The action alternatives were characterized as “Balanced Land Development and Conservation,” “Maximum Land Development,” and “Maximum Land Conservation.”

The alternatives were designed to vary in the amount of land allocated for residential development and for residential shoreline access. In response to public comments on the Draft EIS, TVA developed a fifth alternative, designated “Balanced Land Development with Conservation Partnership.” This alternative was designed to allow increased reservoir access while providing additional shoreline protection.

Under Alternative A, the No Action Alternative, TVA and TDEC would not adopt a jointly prepared plan. In the absence of a plan, TVA and TDEC would proceed with disposition or management of properties on a case-by-case basis. Because no joint plan would exist, the project lands could be considered for a variety of uses. More than likely, some amount of shoreline property (up to 45 percent of project lands) could eventually be considered for residential or commercial uses. About 22 percent already has been transferred to the state and local governments for recreational usage or are currently being used for recreational purposes such as parks and marinas. Those tracts (9 percent of project lands) identified during the planning process as containing rare species, wetlands, cultural resources, or unique natural features would likely be maintained in a protective category to facilitate TVA's and TDEC's compliance with laws relating to protection of sensitive resources. Approximately 20 percent of project lands would likely be managed for natural resource conservation because it has been deemed in the current planning process as not suitable or capable for development. The remaining 4 percent would be retained for use as TVA dam reservation (TVA project operation).

Under Alternative B, Balanced Land Development and Conservation, parcels totaling 938 acres would be available for residential development or residential access, with the rest of project lands allocated to natural resource-oriented and recreational uses. Cumulatively, 25 percent of project lands would be allocated to residential uses, 25 percent to recreation uses, and 36 percent to natural resource-oriented uses. As in Alternative A, approximately 9 percent of project lands would be allocated to sensitive resource management, and 4 percent to TVA project operations. Alternative B was identified as the agencies' preferred alternative in the Draft EIS.

Under Alternative B1, Balanced Land Development with Conservation Partnership, TVA modified Alternative B to respond to comments received on the draft EIS and plan. One parcel of 128 acres, which was previously allocated to residential development, was changed to a natural resource management allocation. In addition, a new zone was created, designated “conservation partnership,” for certain narrow shoreline strips of public land. On Tims Ford Reservoir, the agencies found numerous locations where the public land was narrow and does not provide sufficient conservation buffer to preserve water quality, conserve shoreline habitat, protect shorelines from long-term erosion, or retain shoreline aesthetics. It has also been TVA's experience that due to the close proximity of private lands to the lake, these narrow public land strips present unique management problems. Many of those who commented on the draft EIS stated that because of the close proximity of their property to the water's edge, they had an expectation of gaining water access under previous management policies. In the new zone, TVA would consider granting water access in the form of limited community water use facilities in exchange for a wider shoreline buffer zone. Cumulatively, Alternative B1 would result in 24 percent of project lands being allocated to residential uses, 25 percent to recreation, 37 percent to natural resource management, 9 percent to sensitive resource management, and 4 percent to project operations. Although the acreage difference between Alternative B and B1 is small, approximately 9 additional shoreline miles would be open for consideration of requests for community docks under Alternative B1. Alternative B1 was identified as the agencies' preferred alternative in the Final EIS.

Under Alternative C, Maximum Land Development, all parcels would be allocated for development except those that do not meet suitability and capability criteria, contain sensitive resources, or are less than 20 acres. This would result in 1,764 more acres of residential development than alternative B1. Cumulatively, residential development would encompass 41 percent of project lands, recreational development 25 percent, natural resource management 20 percent, sensitive resource management 9 percent, and TVA project operations 4 percent.

Under Alternative D, Maximum Land Conservation, no new development would occur outside of existing areas. All undeveloped lands would be considered unsuitable for development and would be allocated for natural resource conservation. This would result in 1,087 more acres allocated to natural resource conservation than alternative B1. Cumulatively, 17 percent of project lands would be allocated to residential development, 22 percent to recreation, 48 percent to natural resource management uses, 9 percent to sensitive resource management, and 4 percent to TVA project operations.

The EIS considered the environmental consequences of the alternatives on a wide variety of environmental resources. Under any alternative, sensitive resources such as endangered and threatened federal and state-listed species, cultural resources, and wetlands would be protected. Adoption of Alternative B1 would balance the competing demands of development and conservation. Development activities would cause the potential for adverse environmental impacts. However, through the inclusion of environmental safeguards to address water quality, ground water, riparian wildlife habitat, and parcel-specific protection measures, these impacts would be minimized.

During the EIS process, TVA also consulted with the Tennessee State Historic Preservation Officer (SHPO), The Eastern Band of Cherokee Indians (EB), the United Keetoowah Band, the Cherokee Nation of Oklahoma, the Tennessee Commission of Indian Affairs, the Muscogee (Creek) Nation of Oklahoma, and the Poarch Band of Creek Indians on the identification and evaluation of historic properties within the Area of Potential Effect for the Tims Ford Land Plan. Following release of the Final EIS, TVA, TDEC, SHPO, and EB executed a Memorandum of Agreement stipulating measures that will be carried out by TVA and TDEC prior to the commencement of ground-disturbing activities. This agreement allows phased identification, evaluation, and treatment of historic properties, and requires that prior to the transfer of the lands to third parties, TVA and TDEC will ensure that a preservation covenant to protect historic properties is included. These measures ensure that the effects of the Tims Ford Reservoir Land Management and Disposition Plan on historic properties have been taken into account.

Response to Comments on Final EIS

Appendix B of the Final EIS contains summaries of and responses to the comments TVA received during the Draft EIS process. TVA received comments from 268 individuals and organizations. TVA gave the public the opportunity to provide comments on the Final EIS, which included the Conservation Partnership approach.

A total of 7 individuals commented on the Final EIS. Most of these comments were from property owners seeking to clarify whether they had access to the water, or seeking to appeal allocation decisions in the final EIS. TVA plans to consider those requests that are consistent with the land plan.

EPA also commented on the final EIS. Based on their review of the document, they stated that their ordered preferences for alternatives would be D, B1, B, and C. EPA stated that they would not oppose B1 as long as all development is consistent with the TVA Shoreline Management Initiative EIS/ROD, state water quality and other regulations as well as federal statutes associated with delegated programs, and as long as plan implementation is monitored for environmental impacts. EPA also commented on the environmental impacts of residential development for water quality, recreation, and TVA's grandfathering approach to existing docks. TVA agrees that residential development would need to be carefully monitored for compliance with existing regulations to avoid adverse water and air quality impacts.

Decision

The TVA Board decided to adopt the Tims Ford Land Management and Disposition Plan as described in Alternative B1 on August 29, 2000. The Tennessee State Building Commission decided to adopt the plan as described in Alternative B1 on September 14, 2000. TVA believes that Alternative B1 appropriately balances residential shoreline development, recreation use, and resource conservation needs in a way that maintains the quality of life and other important values associated with Tims Ford Reservoir. It recognizes the reality that previous decisions have already allowed residential development on portions of the shoreline, and previous management has created “expectations” for water access among those with shoreline property. It uses logical criteria for determining which stretches of shoreline could have water access, based on past decisions made by the agencies or on distance between the private property line and NSP. It provides a new zone involving partnerships for conservation that would result in the creation of wider shoreline buffers and more protection for water quality and riparian habitats. Finally, it makes an allocation change that would result in additional lands at the lower end of the reservoir being dedicated to natural resource conservation.

Like the other alternatives considered, Alternative B1 sets aside parcels containing sensitive resources and habitats in the Sensitive Resource Protection and Natural Resource Conservation categories. Even for lands that were considered suitable for and capable of development, Alternative B1 adopts commitments that would further minimize the potential for adverse impacts to the environment. These commitments are listed below, under Environmental Commitments.

Environmentally Preferable Alternative

TVA has concluded that Alternative D, which would allow no new land development outside of existing areas, is the environmentally preferable alternative. However, the authorizing legislation for Tims Ford Reservoir, the state legislation transferring lands to TDEC, and the local governments encourage the use of portions of the reservoir lands to foster the economic development of the area. TVA believes that Alternative B1 helps to meet the multiple objectives of the Tims Ford project, and would result in substantially better environmental protection than previous shoreline development practices.

Environmental Commitments

The land plan envisioned in Alternative B1 advances TVA's commitment to resource stewardship and habitat protection through strong conservation approaches, including a new conservation partnership zone to increase shoreline buffers from a minimum of 50 feet to a maximum of 100 feet. Alternative B1 was formulated using environmentally protective measures. Some of these measures include use of a sensitive resource protection zone and retention of a public shoreline strip between the 888 and 895 foot contours. New proposals for access would be allowed using community docks rather than through individual docks, thus minimizing the area of shoreline that will be disturbed. For certain categories of access proposals, TVA would obtain additional shoreline buffers above the 895-foot contour. In addition, TVA is adopting the following measures to minimize environmental impacts:

• New residential development will be required to have groundwater protection plans submitted by the developer for approval prior to development.

• Throughout the construction phase of new subdivisions, periodic site checks will be conducted to ensure that BMPs are used to minimize erosion problems.

• Shoreline fringe wetlands will be avoided during any future development or permitting activities.

• Parcels containing uncommon terrestrial habitats or plants will be protected by avoidance during any future developmental activities. Sale deeds related to disposition will include conditions that require avoidance of the resource on the parcel.

• Livestock grazing on TVA property will be phased out as alternative water sources and pasture are obtained.

• The measures relating to identification, evaluation, and treatment of historic properties contained in the Memorandum of Agreement between TVA, Tennessee State Historic Preservation Officer, Tennessee Department of Environment and Conservation, and the Eastern Band of Cherokee Indians, dated September 21, 2000, will be followed.

With the implementation of the above environmental protection measures, TVA has determined that adverse environmental impacts of future residential shoreline uses would be substantially reduced. These protective measures represent all of the practicable measures to avoid or minimize environmental harm that are associated with this alternative.

As TVA and TDEC implement the Tims Ford Land Management and Disposition Plan, the agencies will continue to work with all affected interests to promote environmentally sound stewardship of public lands.

Dated: October 26, 2000.
Kathryn J. Jackson,
Executive Vice President, River System Operations & Environment.

[FR Doc. 00-28670 Filed 11-7-00; 8:45 am]

BILLING CODE 8120-08-P